DEPARTMENT OF ENERGY

Federal Energy Regulatory Commission

Combined Notice of Filings #2

Take notice that the Commission received the following electric rate filings:

Docket Numbers: ER10-2985-010; ER10-3049-011; ER10-3051-011.

Applicants: Champion Energy Marketing LLC, Champion Energy Services, LLC, Champion Energy, LLC.

Description: Notice of Change in Status for Champion Energy Marketing LLC, et al.

Filed Date: 1/15/13.

Accession Number: 20130115-5079.

Comments Due: 5 p.m. ET 2/5/13.

Docket Numbers: ER13-454-002.

Applicants: NDR Energy Group, LLC.

Description: Amendment Filing Jan 15 2013 to be effective 1/15/2013.

Filed Date: 1/15/13.

Accession Number: 20130115-5058.

Comments Due: 5 p.m. ET 2/5/13.

Docket Numbers: ER13-762-000.

Applicants: Niagara Mohawk Power Corporation, New York Independent System Operator, Inc.

Description: Niagara Mohawk Power Corporation submits tariff filing per 35.13(a)(2)(iii: SA No. 1949 NiMo and EDGE Corp. reimbursement for moving transmission line to be effective 10/19/2012.

Filed Date: 1/15/13.

Accession Number: 20130115-5067.

Comments Due: 5 p.m. ET 2/5/13.

Docket Numbers: ER13-763-000.

Applicants: California Independent System Operator Corporation.

Description: California Independent System Operator Corporation submits tariff filing per 35.13(a)(2)(iii: 2013-01-15 Filing of Certificates of Concurrence to LGIAs filed in ER13-590 to be effective 12/12/2012.

Filed Date: 1/15/13.

Accession Number: 20130115-5068.

Comments Due: 5 p.m. ET 2/5/13.

Docket Numbers: ER13-764-000.

Applicants: CED White River Solar, LLC.

Description: CED White River Solar, LLC submits tariff filing per 35.12: Application for Market-Based Rate Authorization to be effective 3/17/2013.

Filed Date: 1/15/13.

Accession Number: 20130115-5084.

Comments Due: 5 p.m. ET 2/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 15, 2013.
Nathaniel J. Davis, Sr.,
Deputy Secretary.

[FR Doc. 2013-01369 Filed 1-23-13; 8:45 am]

BILLING CODE 6717-01-P